FEDERAL ELECTION COMMISSION

Sunshine Act Meeting

TIME AND DATE: Thursday, April 26, 2018 at 10:00 a.m.

PLACE: 1050 First Street NE, Washington, DC (12th Floor).

STATUS: This meeting will be open to the public.

MATTERS TO BE CONSIDERED:

Correction and Approval of Minutes for January 25, 2018

Correction and Approval of Minutes for February 8, 2018

Audit Recommendation Memorandum on McSally for Congress (MFC) (A15-04)

Draft Advisory Opinion 2018-02: Alabama Academy of Radiology and ALRAD PAC

Draft Advisory Opinion 2018-03: Committee to Elect Michael Gilmore

Draft Advisory Opinion 2018-04: Conservative Primary LLC

Draft Advisory Opinion 2018-05: CaringCent, LLC

Internet Communication Disclaimers Illustrative Examples

Directive 10, Section L.: Special Rules When the Commission Has Fewer Than Four Members

Management and Administrative Matters

CONTACT PERSON FOR MORE INFORMATION: Judith Ingram, Press Officer, Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2018-08604 Filed 4-20-18; 11:15 am]

BILLING CODE 6715-01-P